DEPARTMENT OF LABOR

Employment and Training Administration

[TA-W-59,689]

Alliance Group Technologies Co.; Peru, IN; Notice of Termination of Investigation

Pursuant to section 221 of the Trade Act of 1974, as amended, an investigation was initiated on July 12, 2006, in response to a worker petition filed by a company official on behalf of workers at Alliance Group Technologies Co., Peru, Indiana.

The petitioner has requested that the petition be withdrawn. Consequently, the investigation has been terminated.

Signed at Washington, DC, this 3rd day of August, 2006.
Richard Church,
Certifying Officer, Division of Trade Adjustment Assistance.

[FR Doc. E6-14158 Filed 8-24-06; 8:45 am]

BILLING CODE 4510-30-P